DEPARTMENT OF COMMERCE

Foreign-Trade Zones Board

[Order No. 1989]

Reorganization of Foreign-Trade Zone 33 under Alternative Site Framework; Pittsburgh, Pennsylvania

Pursuant to its authority under the Foreign-Trade Zones Act of June 18, 1934, as amended (19 U.S.C. 81a-81u), the Foreign-Trade Zones Board (the Board) adopts the following Order:

Whereas, the Board adopted the alternative site framework (ASF) (15 CFR Sec. 400.2(c)) as an option for the establishment or reorganization of zones;

Whereas, the Regional Industrial Development Corporation of Southwestern Pennsylvania, grantee of Foreign-Trade Zone 33, submitted an application to the Board (FTZ Docket B-43-2015, docketed June 23, 2015) for authority to reorganize under the ASF with a service area of Allegheny, Armstrong, Beaver, Butler, Fayette, Greene, Indiana, Lawrence, Somerset, Washington and Westmoreland Counties, Pennsylvania, in and adjacent to the Pittsburgh Customs and Border Protection port of entry, FTZ 33's existing Sites 1, 2 and 18 would be categorized as magnet sites, existing Sites 3, 4, 5 and 10 would be categorized as usage-driven sites and Sites 1, 3 and 10 would be modified to reduce the sites' boundaries;

Whereas, notice inviting public comment was given in the Federal Register (80 FR 37221, June 30, 2015) and the application has been processed pursuant to the FTZ Act and the Board's regulations; and,

Whereas, the Board adopts the findings and recommendation of the examiner's report, and finds that the requirements of the FTZ Act and the Board's regulations are satisfied;

Now, therefore, the Board hereby orders:

The application to reorganize FTZ 33 under the ASF is approved, subject to the FTZ Act and the Board's regulations, including Section 400.13, to the Board's standard 2,000-acre activation limit for the zone, to an ASF sunset provision for magnet sites that would terminate authority for Sites 2 and 18 if not activated within five years from the month of approval, and to an ASF sunset provision for usage-driven sites that would terminate authority for Sites 3, 4, 5 and 10 if no foreign-status merchandise is admitted for a bona fide customs purpose within three years from the month of approval.

Signed at Washington, DC, this 20th day of November, 2015.
Paul Piquado,
Assistant Secretary of Commerce for Enforcement and Compliance, Alternate Chairman Foreign-Trade Zones Board.
Andrew McGilvray,
Executive Secretary.

[FR Doc. 2015-30507 Filed 11-30-15; 8:45 am]

BILLING CODE 3510-DS-P